DEPARTMENT OF COMMERCE

National Oceanic and Atmospheric Administration

RIN 0648-XH023

Pacific Fishery Management Council; Public Meeting

AGENCY: National Marine Fisheries Service (NMFS), National Oceanic and Atmospheric Administration (NOAA), Commerce.

ACTION: Notice of a public meeting.

SUMMARY: The Pacific Fishery Management Council's (Pacific Council) Ad Hoc Southern Resident Killer Whale (SRKW) Workgroup (Workgroup) will hold a meeting that is open to the public. This is a public meeting and not a public hearing. Public comments will be taken at the discretion of the Workgroup chair as time allows. The Workgroup will be focused solely on Pacific Council-area ocean salmon fisheries.

DATES: The meeting will be held Thursday, May 23 and Friday, May 24, 2019. The meeting will start at 10 a.m. and will end at 5 p.m. on May 23. The meeting will continue on May 24 at 9 a.m. and will end at 2 p.m., or until business is complete.

ADDRESSES: The meeting will be held at the Embassy Suites by Hilton Portland Airport, Oak Meeting Room, 7900 NE 82nd Avenue, Portland, OR 97220; telephone: (503) 460-3000.

Council address: Pacific Fishery Management Council, 7700 NE Ambassador Place, Suite 101, Portland, OR 97220.

FOR FURTHER INFORMATION CONTACT: Ms. Robin Ehlke, Pacific Council; telephone: (503) 820-2410.

SUPPLEMENTARY INFORMATION: At the March 2019 Pacific Council meeting, the National Marine Fisheries Service (NMFS) announced plans to reinitiate Endangered Species Act (ESA) consultation on the effect of Pacific Council-area ocean salmon fisheries on SRKW. NMFS and the Pacific Council agreed on a collaborative approach and began establishing work plans and a tentative schedule. At the April 2019 meeting, the Pacific Council formed the Workgroup to reassess the effects of Pacific Council-area ocean salmon fisheries on the Chinook salmon prey base of SRKW. A draft Terms of Reference was reviewed by the Pacific Council which describes the purpose of the Workgroup, a proposed timeline to accomplish this task, and a list of participants. Supporting documents can be found in the Pacific Council's April 2019 Briefing Book (Agenda Item F.3.a, Supplemental NMFS Report 1, April 2019 and Agenda Item D.6.a, Supplemental NMFS Report 1, April 2019).

The primary purpose of this first work session is to review the purpose of the Workgroup, discuss the current status of SRKW, exchange ideas regarding risk assessment methods and criteria for evaluating Pacific Council salmon fisheries, and to develop a work plan for the first draft of a risk assessment report. The Workgroup may also discuss and consider other items of interest on the Pacific Council's June 2019 meeting agenda. Although non-emergency issues not contained in the Workgroup meeting agenda may come before the Workgroup for discussion, those issues may not be the subject of formal action during this meeting. The Workgroup will provide a summary of this meeting to the Pacific Council, its advisory bodies, and the public at the June 2019 Pacific Council meeting in San Diego, CA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: May 1, 2019.
Tracey L. Thompson,
Acting Deputy Director, Office of Sustainable Fisheries, National Marine Fisheries Service.

[FR Doc. 2019-09192 Filed 5-3-19; 8:45 am]

BILLING CODE 3510-22-P